U.S.-CHINA ECONOMIC AND SECURITY REVIEW COMMISSION

Notice of Open Public Event

AGENCY: U.S.-China Economic and Security Review Commission.

ACTION: Notice of open public event.

SUMMARY: Notice is hereby given of the following open public event of the U.S.-China Economic and Security Review Commission. The Commission is mandated by Congress to investigate, assess, and report to Congress annually on “the national security implications of the economic relationship between the United States and the People's Republic of China.” Pursuant to this mandate, the Commission will hold a public release of its 2018 Annual Report to Congress in Washington, DC on November 14, 2018.

DATES: The release is scheduled for Wednesday, November 14, 2018 from 10:30 a.m. to 11:30 a.m.

ADDRESSES: Hart Senate Office Building, Room 902, Washington, DC. Please check the Commission's website at www.uscc.gov for possible changes to the event schedule. Reservations are not required to attend.

FOR FURTHER INFORMATION CONTACT: Any member of the public seeking further information concerning the event should contact Leslie Tisdale, 444 North Capitol Street NW, Suite 602, Washington DC 20001; telephone: 202-624-1496, or via email at ltisdale@uscc.gov. Reservations are not required to attend.

SUPPLEMENTARY INFORMATION:

Topics to Be Discussed: The Commission's 2018 Annual Report to Congress addresses the following topics:

• U.S.-China Economic and Trade Relations, including: Year in Review: Economics and Trade; Tools to Address U.S.-China Economic Challenges; and China's Agricultural Policies: Trade, Investment, Safety, and Innovation.

• U.S.-China Security Relations, including: Year in Review: Security and Foreign Affairs; and China's Military Reorganization and Modernization: Implications for the United States.

• China and the World, including: Belt and Road Initiative; China's Relations with U.S. Allies and Partners; China and Taiwan; China and Hong Kong; and China's Evolving North Korea Strategy.

• China's High-Tech Development, including Next Generation Connectivity.

Authority: Congress created the U.S.-China Economic and Security Review Commission in 2000 in the National Defense Authorization Act (Public Law 106-398), as amended by Division P of the Consolidated Appropriations Resolution, 2003 (Public Law 108-7), as amended by Public Law 109-108 (November 22, 2005), as amended by Public Law 113-291 (December 19, 2014).

Dated: October 11, 2018.
Daniel W. Peck,
Executive Director, U.S.-China Economic and Security Review Commission.

[FR Doc. 2018-22498 Filed 10-15-18; 8:45 am]

BILLING CODE 1137-00-P